DEPARTMENT OF JUSTICE

Antitrust Division

Notice Pursuant to the National Cooperative Research and Production Act of 1993—Specialty Vehicle Institute of America

Notice is hereby given that, on March 26, 2021, pursuant to Section 6(a) of the National Cooperative Research and Production Act of 1993, 15 U.S.C. 4301 et seq. (“the Act”), Specialty Vehicle Institute of America (“SVIA”) has filed written notifications simultaneously with the Attorney General and the Federal Trade Commission disclosing additions or changes to its standards development activities. The notifications were filed for the purpose of extending the Act's provisions limiting the recovery of antitrust plaintiffs to actual damages under specified circumstances.

Pursuant to the Act, the name and principal place of business of the standards development organization is: Specialty Vehicle Institute of America, 2 Jenner, Suite 150, Irvine, CA 92618. The nature and scope of SVIA's standards development activities are: Maintenance to and revision of a voluntary standard (ANSI/SVIA 1-2017) addressing design, configuration and performance aspects of Four Wheel All-Terrain Vehicles (ATVs).

In addition, SVIA is including its members, American Honda Motor Co., Inc. (Torrance, CA); BRP, Inc. (Valcourt, Quebec); CFMOTO Powersports, Inc. (Plymouth, MN), Kawasaki Motors Corp., U.S.A. (Irvine, CA); KYMCO USA, Inc. (Spartanburg, SC); Polaris Inc. (Medina, MN); Suzuki Motor USA, LLC (Brea, CA); Textron Specialized Vehicles (Augusta, GA); and Yamaha Motor Corporation, U.S.A. (Cypress, CA), in this notice.

On October 14, 2005, SVIA filed its original notification pursuant to Section 6(a) of the Act. The Department of Justice published a notice in the Federal Register pursuant to Section 6(b) of the Act on November 25, 2005 (70 FR 71172).

The last notification was filed with the Department on February 5, 2016. A notice was published in the Federal Register pursuant to Section 6(b) of the Act March 9, 2016 (81 FR 12524).

Suzanne Morris,
Chief, Premerger and Division Statistics, Antitrust Division.

[FR Doc. 2021-09897 Filed 5-10-21; 8:45 am]

BILLING CODE P